NATIONAL SCIENCE FOUNDATION

U.S. National Assessment Synthesis Team; Notice of Meeting

In accordance with the Federal Advisory Committee Act (Pub. L. 92-463, as amended), the National Science Foundation announces the following meeting:

Name: National Assessment Synthesis Team (#5219).

Date and Time: May 31, 2000, 8:30 a.m.-5:30 p.m.; June 1, 2000, 8:30 a.m.-3:30 p.m.

Place: Renaissance Hotel, 999 Ninth Street, NW, Washington DC 20001.

Type of Meeting: Open.

Contact Person: Thomas Spence, National Science Foundation, 4201 Wilson Blvd., Suite 705, Arlington, VA 22230. Tel. 703-306-1502; Fax: 703-306-0372; E-mail tspence@nsf.gov. Interested persons should contact Ms. Susan Henson at the above number as soon as possible to ensure space provisions are made for all participants and observers.

Minutes: May be obtained subsequent to the meeting from the contact person listed above.

Purpose of Meeting: To review preparation of the report the National Assessment Synthesis Team is preparing for the interagency Subcommittee on Global Change Research to report on the findings of the National Assessment of the potential consequences of climate variability and climate change for the United States.

Agenda:

Day 1 (May 31): Members will review technical comments received and will discuss revisions to report; an opportunity for public comment will be provided in late afternoon.

Day 2 (June 1): Discussion of technical comments and revisions will continue.

Reason for Late Notice: This same notice appeared in the Federal Register on May 18, 2000. The Committee was unaware at the time the notice was submitted that it would ultimately be published two days later than anticipated. Because this upcoming Committee meeting will result in a draft report which needs to be made available for a 60-day public comment period, as directed by Congress, it is necessary to continue the Committee's expeditious progress toward completion of its report.

Dated: May 22, 2000.
Karen J. York,
Committee Management Officer.

[FR Doc. 00-13160 Filed 5-24-00; 8:45 am]

BILLING CODE 7555-01-M